DEPARTMENT OF COMMERCE

National Oceanic and Atmospheric Administration

50 CFR Part 679

[Docket No. 000211040-0040-01; I.D. 091800J]

Fisheries of the Exclusive Economic Zone Off Alaska; Sharpchin and Northern Rockfish in the Aleutian Islands Subarea

AGENCY: National Marine Fisheries Service (NMFS), National Oceanic and Atmospheric Administration (NOAA), Commerce.

ACTION: Fishery closure.

SUMMARY: NMFS closes directed fishing for Atka mackerel in the Aleutian Islands subarea of the Bering Sea and Aleutian Islands management area (BSAI) by vessels using trawl gear not fishing for a Community Development Quota (CDQ). This action is necessary to prevent overfishing of the sharpchin/northern rockfish species group.

DATES: Effective 1200 hrs, Alaska local time (A.l.t.), September 20, 2000, until 2400 hrs, A.l.t., December 31, 2000.

FOR FURTHER INFORMATION CONTACT: Andrew N. Smoker, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act (Magnuson-Stevens Act). Regulations governing fishing by U.S. vessels in accordance with the FMP appear at subpart H of 50 CFR part 600 and 50 CFR part 679.

The Magnuson-Stevens Act requires that conservation and management measures prevent overfishing. The 2000 overfishing level for the sharpchin/northern rockfish species group in the Aleutian Islands subarea of the BSAI is established by the Final 2000 Harvest Specifications of Groundfish for the BSAI (65 FR 8282, February 18, 2000) as 6,870 metric tons (mt), the acceptable biological catch (ABC) is established as 5,150 mt and the non-CDQ total allowable catch (TAC) as 4,764 mt. The Administrator, Alaska Region, (Administrator) NMFS, estimates that as of September 20, 2000, the non-CDQ TAC of sharpchin/northern rockfish will be caught.

NMFS closed directed fishing for sharpchin/northern rockfish in Closures of Specified Groundfish Fisheries in the Bering Sea and Aleutian Islands (65 FR 8297, February 18, 2000). Substantial trawl fishing effort will be directed at remaining amounts of non-CDQ Atka mackerel in the Aleutian Islands subarea during 2000. This fishery has significant incidental catch of sharpchin/northern rockfish, averaging about 95 mt per day during the week ending September 16, 2000. Data from the groundfish observer program indicates that high incidental catch rates of sharpchin/northern rockfish are experienced in the Atka mackerel fishery and range from 15 percent to 25 percent. These high rates of sharpchin/northern rockfish are inherent in the directed Atka mackerel fishery and will not be reduced if the retention of sharpchin/northern rockfish was prohibited pursuant to § 679.20(d)(2). If the trawl non-CDQ Atka mackerel fishery were allowed to continue beyond September 20, 2000, the ABC for sharpchin/northern rockfish would be exceeded significantly.

The Regional Administrator, Alaska Region, NMFS has determined, in accordance with § 679.20(d)(3) that closing the directed fishery for non-CDQ Atka mackerel by vessels using trawl gear is necessary to prevent overfishing of the sharpchin/northern rockfish species group, and is the least restrictive measure to achieve that purpose. Without this directed fishery closure, significant incidental catch of sharpchin/northern rockfish would occur by trawl vessels targeting non-CDQ Atka mackerel.

Maximum retainable bycatch amounts for Atka mackerel may be found in the regulations at § 679.20(e) and (f).

Pursuant to 5 U.S.C. section 553, the Assistant Administrator for Fisheries, NOAA, finds that this action is necessary to prevent overfishing of sharpchin/northern rockfish in the Aleutian Islands subarea of the BSAI and thus constitutes good cause to waive the requirement to provide prior notice and public comment because such procedure is contrary to the public interest. Similarly, the need to implement these measure in a timely fashion to prevent overfishing constitutes good cause to waive the 30-day delay in effectiveness.

Classification

This action is required by § 679.20 and is exempt from review under E.O. 12866.

Authority: 16 U.S.C. 1801 et seq.

Dated: September 20, 2000.
Bruce C. Morehead,
Acting Director, Office of Sustainable Fisheries, National Marine Fisheries Service.

[FR Doc. 00-24591 Filed 9-20-00; 4:44 pm]

BILLING CODE: 3510-22 -S